DEPARTMENT OF THE INTERIOR

Minerals Management Service

Outer Continental Shelf (OCS) Scientific Committee (SC); Announcement of Plenary Session

AGENCY: Minerals Management Service (MMS), Interior.

ACTION: Notice of meeting.

SUMMARY: The OCS Scientific Committee will meet at the Hilton New Orleans/St. Charles Avenue in New Orleans, Louisiana.

DATES: Tuesday, May 22, 2007, from 8 a.m. to 5:30 p.m.; Wednesday, May 23, 2007, from 8 a.m. to 5:30 p.m.; and Thursday, May 24, 2007, 8:30 a.m. to 12:30 p.m.

ADDRESS: Hilton New Orleans/St. Charles Avenue, 333 St. Charles Avenue, New Orleans, Louisiana 70130, telephone (504) 524-8890.

FOR FURTHER INFORMATION CONTACT: A copy of the agenda may be requested from MMS by calling Ms. Carolyn Beamer at (703) 787-1211. Other inquiries concerning the OCS SC meeting should be addressed to Dr. James Kendall, Executive Secretary to the OCS SC, Minerals Management Service, 381 Elden Street, Mail Stop 4043, Herndon, Virginia 20170-4817 or by calling (703) 787-1656.

SUPPLEMENTARY INFORMATION: The OCS SC will provide advice on the feasibility, appropriateness, and scientific value of the OCS Environmental Studies Program to the Secretary of the Interior through the Director of the MMS. The SC will review the relevance of the research and data being produced to meet MMS scientific information needs for decisionmaking and may recommend changes in scope, direction, and emphasis.

The Committee will meet in plenary session on Tuesday, May 22. The Deputy Associate Director will address the Committee on the general status of the MMS and its activities. There will be an update on OCS activities in the Gulf of Mexico OCS Region and briefings on MMS' Alternate Energy Program and the Louisiana State University Coastal Marine Institute program.

On Wednesday, May 23, the Committee will meet in discipline breakout sessions (i.e., biology/ecology, physical sciences, and social sciences) to review the specific research plans of the MMS regional offices for Fiscal Years 2007 and 2008.

On Thursday, May 24, the Committee will meet in plenary session for reports of the individual discipline breakout sessions of the previous day and to continue with Committee business.

The meetings are open to the public. Approximately 30 visitors can be accommodated on a first-come-first-served basis at the plenary session.

Authority: Federal Advisory Committee Act, P.L. 92-463, 5 U.S.C., Appendix I, and the Office of Management and Budget's Circular A-63, Revised.

Dated: April 26, 2007.
Chris C. Oynes,
Associate Director for Offshore Minerals Management.

[FR Doc. E7-8331 Filed 5-1-07; 8:45 am]

BILLING CODE 4310-MR-P